DEPARTMENT OF HEALTH AND HUMAN SERVICES

Opportunity for Cosponsorship of the Integrated Medical, Public Health, Preparedness, and Response Training Summit

AGENCY: Department of Health and Human Services, Office of the Secretary.

ACTION: Notice.

SUMMARY: The Department of Health and Human Services' Office of the Assistant Secretary for Preparedness and Response (ASPR) and Office of the Surgeon General (OSG) announce the opportunity for both private sector and non-profit entities to cosponsor an annual training summit. The focus of this training is medical and public health preparedness and response during disasters and emergencies. Potential cosponsors must have a mutual interest in the subject matter, the capability to provide logistical and educational support, and be willing to participate substantively in the cosponsored activity.

DATES: To receive consideration, a request to participate as a cosponsor must be received by the close of business on February 2, 2009. Requests will meet the deadline if they are either (1) received on or before the deadline date; or (2) postmarked on or before the deadline date. Private metered postmarks will not be acceptable as proof of timely mailing. Hand-delivered requests must be received by 5 p.m. on the deadline date. Requests that are received after the deadline date will be returned to the sender.

ADDRESSES: Notification of interest and proposal for cosponsorship should be sent to Leslie Beck, National Disaster Medical System, 330 Independence Ave., SW, Room G-644, Washington, DC 20201 or if mailing by FedEx/UPS please send them to Leslie Beck, 409 Third Street, SW., Suite 330, Washington, DC 20024. Phone number: (202) 205-5929, fax number: (800) 872-5945. Notifications and proposals may also be submitted by electronic mail to leslie.beck@hhs.gov.

FOR FURTHER INFORMATION CONTACT: Requests for additional information on the training and cosponsorship should be directed to Leslie Beck, National Disaster Medical System, 330 Independence Ave., SW., Room G-644, Washington, DC 20201 or if mailing by FedEx/UPS please send them to Leslie Beck, 409 Third Street, SW., Suite 330, Washington, DC 20024. Phone number: (202) 205-5929, fax number: (800) 872-5945, e-mail: leslie.beck@hhs.gov.

SUPPLEMENTARY INFORMATION:

Description

The Integrated Medical, Public Health, Preparedness, and Response Training Summit brings together several national-level entities within the Department of Health and Human Services (HHS) that have, in the past, held separate organizational meetings, training summits and leadership conferences. These entities collectively organized a joint training summit scheduled to be held in April, 2009. These organizations include the U.S. Public Health Service (PHS), National Disaster Medical System (NDMS), Medical Reserve Corps (MRC) and the Emergency System for Advance Registration of Volunteer Health Professionals (ESAR-VHP). The combination into an integrated Training Summit permits coordination, collaboration and interaction amongst the target audience—the leaders and members of these response partner organizations. The Training Summit will enhance the knowledge, skills, and abilities of participants, which in turn will improve their competency to deliver public health and medical care services during emergencies and disasters of any origin. Networking with these expert faculty members and fellow participants, many of whom are the nation's leaders in the area of public health emergencies, will give access to the latest in emergency response and coordination capabilities.

These organizations are authorized under sections 203, 319I, 2812, and 2813 of the Public Health Service Act, among other HHS authorities.

Requirements of Cosponsorship

ASPR and OSG are seeking a cosponsor(s) for the 2010 national training summit for full-time, intermittent, and other potential Federal, State and local responders, as well as the leaders of the various component organizations. The summit will focus on skills development, knowledge enhancement and information sharing regarding the variety of support services necessary during a public health emergency.

Following the training summit, participants will be better trained for their respective missions and will understand how other public health and medical response components contribute to the full spectrum of care available during an emergency.

Cosponsoring organizations must have a substantive interest in the goals of the training summit and are expected to be active participants. Cosponsorship involves joint development, support, implementation, and evaluation of the training summit with the ASPR, OSG and other cosponsors.

The ASPR and OSG are seeking a cosponsor(s) to partner in ways that accord with its particular circumstances. For example, a cosponsor may assist ASPR and OSG by:

(1) Participating in the development of the training curriculum, planning of educational demonstrations, and designation of professional organizations and experts in those specific activities;

(2) Participating in the review, development, and approval of all materials produced for educational purposes and promotion of the event; and all materials, signage, press releases, etc. that mention the cosponsorship;

(3) Participating in the coordination of logistical concerns; e.g., training location, training structure, insurance, etc.

A copy of the Department of Health and Human Services guidelines on cosponsorship is available upon request. HHS will reserve the right to determine both the form and the content of the information provided to the training participants.

Availability of Funds

There are no Federal funds available for this cosponsorship. All cosponsors agree to not use the event as a vehicle to sell or promote products or services. Any incidental promotional materials cannot imply that the HHS endorses any products or services.

Eligibility for Cosponsorship

To be eligible, an interested party must be: (1) Be a public or a private non-profit or for-profit organization or corporation, (2) be an entity that, by virtue of its nature and purpose, has a legitimate interest in the subject matter, (3) agree to sign a cosponsorship agreement with the HHS which will set forth the details of the cosponsored activity, including the requirements that any fees raised should not be designed to exceed the cosponsor's costs, and fees collected by the cosponsor should be limited to the amount necessary to cover the cosponsor's related operating expenses and (4) participate substantively in the training summit (not just provide funding or logistical support).

Cosponsorship Proposal

Each cosponsorship proposal should contain a description of: (1) The entity or organization; (2) its background in training and educational activities; (3) its proposed involvement in the cosponsored activity to include evidence of a substantive interest; and (4) plan for implementation with timeline(s). Selected cosponsors shall furnish the personnel, materials, equipment and funding necessary to carry out their activities in cosponsoring the 2010 training summit.

Evaluation Criteria

In exploring potential cosponsors for the training summit, ASPR and OSG will use the following evaluation criteria, as appropriate and relevant, to determine whether HHS will engage in a cosponsorship with particular entities:

(1) Requester's qualifications and capability to fulfill cosponsorship responsibilities;

(2) Requester's experience in administering large national training programs;

(3) Requester's specific work previously performed or currently being performed, with particular emphasis on those national programs/projects dealing with educational activities with the Federal Government, schools, organizations, and individuals;

(4) Requester's personnel: Name, professional qualifications and specific experience of key personnel who would be available to work on these projects;

(5) The ability of the interested party to arrange for the funding of the development and implementation of the training summit. The requester's description of financial management to include the discussion of experience in developing an annual budget and collecting and managing monies from organizations and/or individuals;

(6) Requester's proposed plan for managing the training program, including such financial aspects as cost of venue, materials, promotion, distribution and program management.

Other Information

Prior to the selection of the cosponsors, HHS staff will meet separately with those interested parties who best meet the evaluation criteria. Moreover, other federal agencies may be involved in the cosponsorship process. As a general rule, restrictions will apply to the use of any HHS logos, so as to avoid suggestions that HHS, or any other department or agency of the Federal Government, endorses any of the products involved in the training summit. Once details of the program have been mutually agreed upon, cosponsors will be required to enter into a cosponsorship agreement with the Department of Health and Human Services setting forth the rights and responsibilities of the cosponsor(s) and HHS, especially the right of HHS to approve training messages.

Dated: December 8, 2008.
Craig Vanderwagon,
Assistant Secretary for Preparedness and Response, U.S. Department of Health and Human Services.

[FR Doc. E8-30151 Filed 12-18-08; 8:45 am]

BILLING CODE 4150-37-P